DEPARTMENT OF THE INTERIOR

Bureau of Indian Affairs

Information Collection for Part 13, Tribal Reassumption of Jurisdiction Over Child Custody Proceedings

AGENCY: Bureau of Indian Affairs, Interior.

ACTION: Notice of renewal and request for comments.

SUMMARY: In compliance with the Paperwork Reduction Act of 1995 this notice announces that the Bureau of Indian Affairs is seeking to extend clearance for an information collection request. The information collection, Tribal Reassumption of Jurisdiction Over Child Custody Proceedings, is cleared under OMB Control Number 1076-0112. Interested parties are invited to comment on this collection.

DATES: Written comments must be submitted on or before February 28, 2006.

ADDRESSES: Written comments may be sent to Chet Eagleman, Office of Tribal Services, Bureau of Indian Affairs, Department of Interior, 1951 Constitution Avenue, Mail Stop Room 320-SIB, Washington, DC 20240, or fax to (202) 208-2648.

FOR FURTHER INFORMATION CONTACT: Interested persons can obtain additional information regarding collection requests with no additional charge by contacting Chet Eagleman, 202-513-7640.

SUPPLEMENTARY INFORMATION:

I. Abstract

The Department has issued regulations prescribing procedures by which an Indian tribe may reassume jurisdiction over Indian child proceedings when a state asserts any jurisdiction. Tribes have the right to pursue this alternative because this action is authorized by the Indian Child Welfare Act, Public Law 95-608, 92 Stat. 3069, 25 U.S.C. 1918.

II. Request for Comments

The Bureau of Indian Affairs (BIA) invites comments on:

(a) Whether the collection of information is necessary for the proper performance of the functions of the BIA, including whether the information will have practical utility;

(b) The accuracy of the BIA's estimate of the burden (including hours and cost) of the proposed collection of information, including the validity of the methodology and assumptions used;

(c) Ways to enhance the quality, utility, and clarity of the information to be collected; and

(d) Ways to minimize the burden of the collection of information on those who are to respond, including through the use of appropriate automated, electronic, mechanical, or other collection techniques or other forms of information technology.

An agency may not conduct or sponsor, and a person is not required to respond to collection of information unless it displays a currently valid OMB control number.

It is our policy to make all comments available to the public for review at the location listed in the ADDRESSES section, room 355B-SIB, during the hours of 8 a.m. to 4:30 p.m., EST, Monday through Friday, except for legal holidays. If you wish to have your name and/or address withheld, you must state this prominently at the beginning of your comments. We will honor your request according to the requirements of the law. All comments from organizations or representatives will be available for review. We may withhold comments from review for other reasons.

III. Data

OMB Control Number: 1076-0112.

Type of review: Renewal.

Title: 25 CFR 13, Tribal Reassumption of Jurisdiction Over Child Custody Proceedings.

Brief Description of: The collection of information will ensure that the provisions of Public Law 95-608 are met.

Respondents: Federally-recognized tribes who submit tribal reassumption petitions for review and approval by the Secretary of the Interior.

Number of Respondents: 2.

Estimated time per application: 8 hours.

Frequency of Response: Annually.

Total Annual Burden Hours: 16 hours.

Total Annual Cost to Respondents: 0.

Dated: December 22, 2005.
Michael D. Olsen,
Acting Principal Deputy Assistant Secretary—Indian Affairs.

[FR Doc. E5-8109 Filed 12-29-05; 8:45 am]

BILLING CODE 4310-4J-P